DEPARTMENT OF ENERGY

Federal Energy Regulatory Commission

[Docket No. RM07-10-002]

Transparency Provisions of Section 23 of the Natural Gas Act; Notice of the Agenda for Form No. 552 Technical Conference

March 15, 2010.

In a “Notice of Technical Conference” issued on February 22, 2010 in the above-referenced proceeding, the Commission stated that this conference, to be held on March 25, 2010, will address select issues identified by staff. Those issues include: (1) Inconsistencies in reporting upstream transactions in the natural gas supply chain on Form No. 552, and whether these transactions contribute to wholesale price formation; (2) whether transactions involving balancing, cash-out, operational, and in-kind transactions should be reported on Form No. 552; and (3) whether the units of measurement (TBtu) currently used for reporting volumes in the form are appropriate. The Agenda for this Technical Conference is attached to this notice.

Specific questions to each panel are on the attached Agenda. Each panelist will be given the opportunity to provide a brief introductory statement on these questions.

Kimberly D. Bose,
Secretary.

March 25, 2010: Commission Meeting Room

9 a.m.-9:10 a.m.—Opening Remarks.

9:10 a.m.-10:45 a.m.—Upstream transactions in the natural gas supply chain.

1. How has your company addressed the reporting of unprocessed gas on Form No. 552?

2. Are there unreported volumes of unprocessed physical natural gas (between the wellhead and any processing plant) that use, contribute to, or might they contribute to the formation of daily or monthly gas price indices? Are the volumes associated with these transactions material?

3. What effect, if any, will the development of nontraditional gas sources have on the reporting on unprocessed gas?

4. Is the current reporting measurement (TBtus) an appropriate measurement? Would reporting volumes in decatherms be more appropriate?

Panelists

• John Poe, Manager, Regulatory Affairs, ExxonMobil Gas & Power Marketing Company (Natural Gas Supply Association).

• William E. Shanahan, Marketing Manager, Chaparral LLC, (Natural Gas & Energy Association of Oklahoma).

• Mary Nelson, Manager, Regulatory Affairs, Devon Energy Corp. (Natural Gas Supply Association).

• Katie Rice, Director, Regulatory Affairs, DCP Midstream LLC.

• Representative, Independent Producers Association of America.

10:45 a.m.-11 a.m.—Break

11 a.m. -12:15 p.m. Cashouts, Imbalances and Operational Volumes

1. How has your company addressed the reporting of cashouts, imbalance makeup and operational volumes on the Form No. 552 in relation to the total volumes of physical natural gas reported?

2. Are the volumes associated with these transactions material? Please quantify.

3. Is the current reporting measurement (TBtus) an appropriate measurement? Would reporting volumes in decatherms be more appropriate?

Panelists

• Scott Brewer, Director, North American Energy, Terra Industries, Inc. (Process Gas Consumers).

• Katie Rice, Director, Regulatory Affairs, DCP Midstream LLC.

• Matt Kerec, Assistant Commodity Manager, Alcoa, Inc. (Process Gas Consumers).

• Michael E. Novak, Assistant General Manager, Federal Regulatory Affairs, National Fuel Gas Distribution Corp. (on behalf of the American Gas Association).

• John Poe, Manager, Regulatory Affairs, ExxonMobil Gas & Power Marketing Company (Natural Gas Supply Association).

• Dena Wiggins, Partner, Ballard Spahr LLP (Process Gas Consumers Group).

12:15 p.m.-1:15 p.m.—Lunch

1:15 p.m.-1:45 p.m.—Question and Answer Period

1:45 p.m.-2 p.m.—Closing Remarks

[FR Doc. 2010-6163 Filed 3-19-10; 8:45 am]

BILLING CODE 6717-01-P